DEPARTMENT OF HEALTH AND HUMAN SERVICES

Establishment of the Presidential Commission for the Study of Bioethical Issues

AGENCY: Office of Public Health and Science, Office of the Secretary, Department of Health and Human Services.

ACTION: Notice.

Authority: Executive Order 13251, dated November 24, 2009. The Presidential Commission for the Study of Bioethical Issues will be governed by provisions of the Federal Advisory Committee Act, Public Law 92-463, as amended (5 U.S.C. App.), which sets forth standards for the formation and use of advisory committees.

SUMMARY: The U.S. Department of Health and Human Services announces establishment of the Presidential Commission for the Study of Bioethical Issues (the “Commission”), as directed by Executive Order 13521.

FOR FURTHER INFORMATION CONTACT: Ms. Diane M. Gianelli, Acting Executive Director, Presidential Commission on the Study of Bioethical Issues; Department of Health and Human Services; and/or Ms. Judith E. Crawford, Administrative Director, Presidential Commission on the Study of Bioethical Issues; Department of Health and Human Services. Both Ms. Gianelli and Ms. Crawford work in the Commission's office located at: 1425 New York Avenue, NW., Suite C100; Washington, DC 20005; Telephone: (202) 233-3960; Fax: (202) 233-3990.

SUPPLEMENTARY INFORMATION: Under Executive Order 13521, the President directed that the Commission shall be established within the Department of Health and Human Services (HHS). To comply with the authorizing directive and guidelines under the Federal Advisory Committee Act (FACA), a charter has been filed with the Committee Management Secretariat in the General Services Administration (GSA), the appropriate committees in the Senate and U.S. House of Representatives, and the Library of Congress to establish the Commission as a non-discretionary Federal advisory committee. The charter was filed on March 10, 2010.

Objectives and Scope of Activities. The Commission shall advise the President on bioethical issues that may emerge as consequences of advances in biomedicine and related areas of science and technology. The Commission shall pursue its work with the goal of identifying and promoting policies and practices that ensure scientific research, healthcare delivery, and technological innovation are conducted in an ethically responsible manner. The Commission shall not be responsible for the review and approval of specific projects. The Commission may accept suggestions of issues for consideration from executive departments and agencies and the public as it deems appropriate to support its mission.

Membership and Designation. The Commission shall be an expert panel composed of not more than 13 members, who will be drawn from fields of bioethics, science, medicine, technology, engineering, law, philosophy, theology, and other areas of the humanities or social sciences. Commission members shall be appointed by the President. The President shall designate a Chair and Vice Chair from among the members of the Commission. At least one, and not more than three members, may be bioethicists or scientists drawn from the executive branch, as designated by the President; members who are selected from the Federal sector to fill these positions on the Commission will be classified as regular government employees. The Commission members who are selected from the public and/or private sector will be classified as special government employees.

Administrative Management and Support. HHS will provide funding and administrative support for the Commission to the extent permitted by law within existing appropriations. Staff will be assigned to a program office established to support the activities of the Commission. Management and oversight for support services provided to the Commission will be the responsibility of the Office of Public Health and Science, which is a staff division within HHS Office of the Secretary. All executive departments and agencies and all entities within the Executive Office of the President shall provide information and assistance to the Commission as the Chair may request for purposes of carrying out the Commission's functions, to the extent permitted by law.

The Commission has been established to replace the President's Council on Bioethics. The Council was established by Executive Order 13237, dated November 28, 2001. Council operations were terminated on September 30, 2009. The authorizing directive for the Commission, Executive Order 13521, supersedes Executive Order 13237.

A copy of the Commission charter can be obtained from the designated contacts or by accessing the FACA database that is maintained by the GSA Committee Management Secretariat. The Web site for the FACA database is http://fido.gov/facadatabase/.

Dated: March 25, 2010.
Howard K. Koh,
Assistant Secretary for Health, Office of Public Health and Science.

[FR Doc. 2010-7232 Filed 3-30-10; 8:45 am]

BILLING CODE 4154-06-P